DEPARTMENT OF ENERGY

Federal Energy Regulatory Commission

[Docket No. RP00-549-001]

U-T Offshore System, L.L.C. Notice of Compliance Filing

October 18, 2000.

Take notice that on October 13, 2000, U-T Offshore System, L.L.C. (UTOS), tendered for filing as part of its FERC Gas Tariff, Fourth Revised Volume No. 1, Substitute Second Revised Sheet No. 78. UTOS requests that this sheet be made effective October 1, 2000.

UTOS states that the tendered sheet is being filed in compliance with the Commission's October 4 Letter Order issued in Docket No. RP00-549-000.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-27264 Filed 10-23-00; 8:45 am]

BILLING CODE 6717-01-M